DEPARTMENT OF COMMERCE

Census Bureau

Proposed Information Collection; Comment Request; Quarterly Survey of State and Local Tax Revenues

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 1, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Cheryl Lee, Chief, State Finance and Tax Statistics Branch, Governments Division, U.S. Census Bureau, 4600 Silver Hill Road, Washington, DC 20233 (301-763-5635).

SUPPLEMENTARY INFORMATION:

I. Abstract

The Census Bureau conducts the Quarterly Summary of State and Local Tax Revenue, using the F-71 (Quarterly Survey of Property Tax Collection), F-72 (Quarterly Survey of State Tax Collections), and F-73 (Quarterly Survey of Non-Property Taxes) forms. The Census Bureau is requesting a revision to the F-73 form, which surveys local governments on the non-property taxes they collect. The revised form will collect additional information about local government revenue, covering areas such as motor fuel sales, public utilities, alcohol sales, tobacco sales, motor vehicle licenses and operator's licenses corporate income and all other non-property taxes. The Census Bureau needs local tax data to publish benchmark statistics on public sector taxes, to provide data to the Bureau of Economic Analysis for Gross Domestic Product (GDP) calculations and other economic indicators, and to provide data for economic research and comparative studies of governmental finances. Data are collected on a quarterly basis from State and local government tax collecting agencies.

Tax collection data are used to measure economic activity for the Nation as a whole, as well as for comparison among the various States. These data also are useful in comparing the mix of taxes employed by individual localities, and in determining the revenue raising capacity of different types of taxes.

The Quarterly Survey of Non-Property Taxes (Form F-73) will be sent to approximately 3,000 local tax collection agencies known to have substantial collections of local general sales and/or local individual income taxes every quarter. A new sample frame is being developed to accompany the new survey design. The new sample is designed to meet the Office of Management and Budget's statistical standards for data quality.

II. Method of Collection

The F-73 forms are sent to respondents by direct mail. Respondents submit the forms by mail, e-mail, facsimile or Internet. (E-mail and facsimile are accepted but not encouraged.)

In those instances when we are not able to obtain a response we conduct follow-up operations using e-mail and phone calls.

III. Data

OMB Control Number: 0607-0112.

Form Number: F-71, F-72, F-73.

Type of Review: Regular submission.

Affected Public: Local governments.

Estimated Number of Respondents: 3,800.

Estimated Time per Response: 45 minutes.

Estimated Total Annual Burden Hours: 11,400.

Estimated Total Annual Cost: $269,154.

Respondent's Obligation: Voluntary.

Legal Authority: Title 13 U.S.C. Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 24, 2009.
Glenna Mickelson,
Management Analyst, Office of the Chief Information Officer.

[FR Doc. E9-30969 Filed 12-29-09; 8:45 am]

BILLING CODE 3510-07-P